DEPARTMENT OF HOUSING AND URBAN DEVELOPMENT

[Docket No. FR-4734-N-61]

Notice of Submission of Proposed Information Collection to OMB: Grant Applications for Healthy Homes and Lead Hazard Programs (Lead-Based Paint Hazard Control Grant Programs, Healthy Homes Demonstration Grant Program, the Operation Lead Elimination Action Program, and the Healthy Homes and Lead Technical Studies Grant Program)

AGENCY: Office of the Chief Information Officer, HUD.

ACTION: Notice.

SUMMARY: The proposed information collection requirement described below has been submitted to the Office of Management and Budget (OMB) of review, as required by the Paperwork Reduction Act. The Department is soliciting public comments on the subject proposal.

DATES: Comments Due Date: November 21, 2002.

ADDRESSES: Interested persons are invited to submit comments regarding this proposal. Comments should refer the proposal by name and/or OMB approval number (2539-0015) and should be sent to: Lauren Wittenberg, OMB Desk Officer, Office of Management and Budget, Room 10235, New Executive Office Building, Washington, DC 20503; Fax number (202) 395-6974; E-mail Lauren_Wittenberg@omb.eop.gov.

FOR FURTHER INFORMATION CONTACT: Wayne Eddins, Reports Management Officer, QDAM, Department of Housing and Urban Development, 451 Seventh Street, Southwest, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Grant Applications for Healthy Homes and Lead Hazard Programs (Lead-Based Paint Hazard Control Program, Healthy Homes Demonstration Grant Program, the Operation Lead Elimination Action Program, and the Healthy Homes and Lead Technical Studies Grant Program).

OMB Approval Number: 2539-0015.

Form Numbers: HUD-424, HU-424B, HUD-424C, HUD-2990, HUD-50070, HUD-50071, SF LLL.

Description of the Need for the Information and Its Proposed Use: This information collection is required in conjunction with the issuance of NOFAs announcing the availability of approximately $95,500,000 for Healthy Homes and Lead Hazard Programs (Lead-Based Paint Hazard Control Grant Program, Healthy Homes Demonstration Grant Program, the Operation Lead Elimination Action Program, and the Healthy Homes and Lead Technical Studies Grant Program). Grants are authorized under Title X of the Housing and Community Development Act of 1992, Public Law 102-550, Section 111(g) and other legislation.

Respondents: Potential applicants include a State, tribal, or unit of local governments. IN addition, potential applicants of the Healthy Homes Demonstration Grant Program, the Operation Lead Elimination Action Program, and the Healthy Homes and Lead Technical Studies Grant Program may include not-for-profit institutions and for-profit firms located in the U.S..

Frequency of Submission: On occasion.

| Number of respondents | × | Annual responses | × | Hours per response | = | Burden hours
Reporting Burden | 225 |  | 1 |  | 85 |  | 19,040

Total Estimated Burden Hours: 19.040.

Status: This is a revision of a currently approved collection.

Authority: Section 3507 of the Paperwork Reduction Act of 1995, 44 U.S.C. 35, as amended.

Dated: October 11, 2002.
Wayne Eddins,
Departmental Reports Management Officer, Office of the Chief Information Officer.

[FR Doc. 02-26773 Filed 10-21-02; 8:45 am]

BILLING CODE 4210-72-M